DEPARTMENT OF THE INTERIOR

National Park Service

[NPS-IMR-BLSC-NPS0037689; PX.XXIMRC63.00.1-244-PPIMFODA00]

Blackwell School National Historic Site

AGENCY: National Park Service, Interior.

ACTION: Notice.

SUMMARY: As authorized by the Blackwell School National Historic Site Act, the National Park Service announces that the Secretary of the Interior has established, in the State of Texas, the Blackwell School National Historic Site as a unit of the National Park System.

ADDRESSES: A color version and more detailed area maps depicting the boundary are available online at https://www.nps.gov/blsc/planyourvisit/maps.htm.

FOR FURTHER INFORMATION CONTACT: Lance Hatten, Deputy Regional Director, National Park Service, Intermountain Region at 303-969-2500.

SUPPLEMENTARY INFORMATION: On October 17, 2022, President Biden signed into law the Blackwell School National Historic Site Act (Pub. L. 117-206), designating the Blackwell School in Marfa, Texas, as a unit of the National Park System. The Blackwell School was a segregated school constructed in Marfa, Texas in 1909. The school was the sole public education institution for hundreds of Marfa's Mexican-American children until its closure in 1965 following the integration of the Marfa Independent School District (ISD). Blackwell School serves as a tangible reminder of the period during which the doctrine of “separate but equal” dominated education and social systems, and that de facto segregation of Mexican-American children was perpetuated in Texas school districts through the mid-twentieth century.

The statute provides that Blackwell School National Historic Site shall be established as a unit of the National Park System once the Secretary determines that a sufficient quantity of land, or interests in land, has been acquired to constitute a manageable park unit.

The National Park Service has acquired all 0.77 acres within the proposed historic site boundary, encompassing the core area of Blackwell School. On July 17, 2024, the Secretary of the Interior signed a Decision Memorandum determining that the Marfa Independent School District has entered into a donation agreement with the National Park Service and that a sufficient quantity of land, or interests in land, has been acquired to constitute a manageable park unit. With the signing of this Decision Memorandum by the Secretary and the publication of this notice in the Federal Register, Blackwell School National Historic Site is established.

Charles F. Sams, III,
Director, National Park Service.

[FR Doc. 2024-16073 Filed 7-22-24; 8:45 am]

BILLING CODE 4312-52-P